GENERAL SERVICES ADMINISTRATION

Office of Communications; Cancellation of an Optional Form by Department of State

AGENCY: General Services Administration.

ACTION: Notice.

SUMMARY: The Department of State is cancelling the following Optional Form because of low usage:

OF 189, Travel Reimbursement Voucher

The form will be converted to a State Department form. You can request copies of the new form from: Department of State, IS/OIS/DIR, 2201 C Street, NW; Room B264NS, Washington, DC 20520-0264.

DATES: Effective December 5, 2000.

FOR FURTHER INFORMATION CONTACT: Ms. Barbara Williams, General Services Administration, (202) 501-0581.

Dated: October 25, 2000.
Barbara M. Williams,
Deputy Standard and Optional Forms Management Officer.

[FR Doc. 00-30900 Filed 12-4-00; 8:45 am]

BILLING CODE 6820-34-M